DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 27, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program: 2008 Farm Bill Provisions on Clarification of Split Issuance; Accrual of Benefits and Definition Changes.

OMB Control Number: 0584-0673.

Summary of Collection: This collection is for providing SNAP households advance or concurrent notice of State agency action to store unused SNAP benefits offline due to three or more months of account inactivity and for those households to seek reinstatement of benefits prior to permanent expungement. Additionally, this collection is for providing SNAP households advance or concurrent notice prior to the State agency expunging unused SNAP benefits from the household's Electronic Benefit Transfer (EBT) account due to nine months of account inactivity.

Need and Use of the Information: SNAP regulations at 7 CFR 274.2, require State agencies to send notices via mail to SNAP participants to inform them if their benefits are being moved off-line and if their benefits are about to be expunged. Notices are sent to the home address of SNAP individuals/households via United States Postal Service. Off-line storage notices are sent up to 10 days prior to or concurrent with benefits moving off-line, and expungement notices must be sent, at a minimum, 30 days prior to benefits being expunged. If a household contacts the State agency after the off-line notice has been sent or reapplies for SNAP benefits, the State agency must reinstate those benefits and make them available within 48 hours.

Description of Respondents: State, Local, or Tribal Government and Individuals or Households.

Number of Respondents: 3,505,850.

Frequency of Responses: Annually.

Total Burden Hours: 239,134.

Rachelle Ragland-Greene,
Departmental Information Collection Clearance Officer.

[FR Doc. 2025-07086 Filed 4-23-25; 8:45 am]

BILLING CODE 3410-30-P